NATIONAL AERONAUTICS AND SPACE ADMINISTRATION

[Notice: (10-076)]

NASA Advisory Council; Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee to the NASA Advisory Council.

DATES: Thursday, July 29, 2010, 9 a.m.-12 p.m., Eastern.

ADDRESSES: NASA Headquarters, 300 E Street, SW., PRC/Room 9H40, Washington, DC 20546.

FOR FURTHER INFORMATION CONTACT: Mr. John Emond, Innovative Partnerships Program, Office of Chief Technologist, National Aeronautics and Space Administration, Washington, DC 20546, at (202) 358-1686, fax: (202) 358-3878, john.l.emond@nasa.gov.

SUPPLEMENTARY INFORMATION: The agenda for the meeting is a deliberative session to reflect on the commercial crew and commercial cargo briefings received by the Committee over the past several months and to provide the Committee Chair with input to bring to the next NASA Advisory Council meeting in August. The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Commercial Space Committee meeting in the PRC/Room 9H40, before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S., fax to John Emond, NASA Advisory Council Commercial Space Committee Executive Secretary, Fax: (202) 358-3878, by no later than July 20, 2010. To expedite admittance, attendees with U.S. citizenship can provide identifying information 3 working days in advance by contacting John Emond via e-mail at john.l.emond@nasa.gov or by telephone at (202) 358-1686 or fax: (202) 358-3878.

Dated: July 7, 2010.
P. Diane Rausch,
Advisory Committee Management Office, National Aeronautics and Space Administration.

[FR Doc. 2010-16940 Filed 7-12-10; 8:45 am]

BILLING CODE P